DEPARTMENT OF COMMERCE

International Trade Administration

[C-489-825]

Heavy Walled Rectangular Welded Carbon Steel Pipes and Tubes From the Republic of Turkey: Affirmative Final Results of Countervailing Duty Administrative Review

AGENCY: Enforcement and Compliance, International Trade Administration, Department of Commerce.

SUMMARY: The Department of Commerce determines that Ozdemir Boru Profil San. Ve Tic. Ltd. Sti. (Ozdemir), an exporter/producer of heavy walled rectangular welded carbon steel pipes and tubes (HWR pipes and tubes) from the Republic of Turkey (Turkey), received countervailable subsidies during the period of review (POR) December 28, 2015, through April 25, 2016, and September 12, 2016, through December 31, 2016.

DATES: Applicable November 21, 2018.

FOR FURTHER INFORMATION CONTACT: Brian Smith or Janae Martin, AD/CVD Operations, Office VIII, Enforcement and Compliance, International Trade Administration, U.S. Department of Commerce, 1401 Constitution Avenue NW, Washington, DC 20230; telephone: (202) 482-1766 or (202) 482-0238, respectively.

SUPPLEMENTARY INFORMATION:

Background

On August 14, 2018, Commerce published the Preliminary Results of the administrative review.¹ Commerce gave interested parties an opportunity to comment on the Preliminary Results.² No interested parties submitted comments. Commerce has conducted this review in accordance with section 751(a)(1)(A) of the Tariff Act of 1930, as amended (the Act).

¹ See Heavy Walled Rectangular Welded Carbon Steel Pipes and Tubes from the Republic of Turkey: Preliminary Results of Countervailing Duty Administrative Review; 2016, 83 FR 40228 (August 14, 2018) (Preliminary Results), and accompanying Preliminary Decision Memorandum (PDM).

² See Preliminary Results, 83 FR at 40228.

Scope of the Order

The products covered by the order are shipments of certain heavy walled rectangular welded steel pipes and tubes of rectangular (including square) cross section, having a nominal wall thickness of not less than 4 mm. The merchandise includes, but is not limited to, the American Society for Testing and Materials (ASTM) A-500, grade B specifications, or comparable domestic or foreign specifications.

Included products are those in which: (1) Iron predominates, by weight, over each of the other contained elements; (2) the carbon content is 2 percent or less, by weight; and (3) none of the elements below exceed the quantity, by weight, respectively indicated:

• 2.50 percent of manganese, or

• 3.30 percent of silicon, or

• 1.50 percent of copper, or

• 1.50 percent of aluminum, or

• 1.25 percent of chromium, or

• 0.30 percent of cobalt, or

• 0.40 percent of lead, or

• 2.0 percent of nickel, or

• 0.30 percent of tungsten, or

• 0.80 percent of molybdenum, or

• 0.10 percent of niobium (also called columbium), or

• 0.30 percent of vanadium, or

• 0.30 percent of zirconium.

The subject merchandise is currently provided for in item 7306.61.1000 of the Harmonized Tariff Schedule of the United States (HTSUS). Subject merchandise may also enter under HTSUS 7306.61.3000. While the HTSUS subheadings and ASTM specification are provided for convenience and customs purposes, the written description of the scope of this order is dispositive.

Changes Since the Preliminary Results

As no parties submitted comments on the Preliminary Results, we made no changes in the final results of this review.

Final Results of Administrative Review

In accordance with section 777A(e)(1) of the Act and 19 CFR 351.221(b)(5), we determine the following countervailable subsidy rate during the period December 28, 2015, through April 25, 2016, and September 12, 2016, through December 31, 2016: ³

³ As we have made no changes to this rate since the Preliminary Results, no additional disclosure of calculations under 19 CFR 351.224(b) is necessary for these final results.

Company | Subsidy rate (percent)
Ozdemir Boru Profil San. Ve Tic. Ltd. Sti | 1.18

Assessment Rates

In accordance with 19 CFR 351.212(b)(2), Commerce shall determine, and U.S. Customs and Border Protection (CBP) shall assess, countervailing duties on all appropriate entries covered by this review. We intend to issue assessment instructions to CBP 15 days after the date of publication of the final results of this review.

Cash Deposit Requirement

Pursuant to section 751(a)(2)(C) of the Act, Commerce also intends to instruct CBP to collect cash deposits of estimated countervailing duties, in the amount shown above, on shipments of subject merchandise by Ozdemir entered, or withdrawn from warehouse, for consumption on or after the date of publication of these final results. For all non-reviewed firms, we will instruct CBP to continue to collect cash deposits at the most-recent company-specific or all-others rate applicable to the company, as appropriate. These cash deposit requirements, when imposed, shall remain in effect until further notice.

Administrative Protective Order

This notice also serves as a final reminder to parties subject to an administrative protective order (APO) of their responsibility concerning the return or destruction of proprietary information disclosed under APO in accordance with 19 CFR 351.305(a)(3), which continues to govern business proprietary information in this segment of proceeding. Timely written notification of the return/destruction of APO materials or conversion to judicial protective order is hereby requested. Failure to comply with the regulations and terms of an APO is a violation which is subject to sanction.

Notification to Interested Parties

These final results are issued and published in accordance with sections 751(a)(1) and 777(i)(1) of the Act and 19 CFR 351.221(b)(5).

Dated: November 15, 2018.
Gary Taverman,
Deputy Assistant Secretary for Antidumping and Countervailing Duty Operations, performing the non-exclusive functions and duties of the Assistant Secretary for Enforcement and Compliance.

[FR Doc. 2018-25381 Filed 11-20-18; 8:45 am]

BILLING CODE 3510-DS-P